DEPARTMENT OF HOMELAND SECURITY

Coast Guard

33 CFR Part 100

[Docket No. USCG-2013-1061]

RIN 1625-AA08

Special Local Regulations; Eighth Coast Guard District Annual and Recurring Marine Events Update

AGENCY: Coast Guard, DHS.

ACTION: Interim final rule; request for comments.

SUMMARY: The Coast Guard is amending and updating its special local regulations relating to recurring marine parades, regattas, and other events that take place in the Eighth Coast Guard District area of responsibility (AOR). This interim rule informs the public of regularly scheduled marine parades, regattas, and other recurring events that require additional safety measures through establishing a special local regulation. Through this interim rule the current list of recurring marine events requiring special local regulations is updated with revisions, additional events, and removal of events that no longer take place in the Eighth Coast Guard District AOR. When these special local regulations are enforced, certain restrictions are placed on marine traffic in specified areas. Additionally, this one rulemaking project reduces administrative costs involved in producing a separate rule for each individual recurring event and serves to provide notice of the known recurring events requiring a special local regulation throughout the year.

DATES: This rule is effective April 22, 2014. Comments and related material must be received by the Coast Guard on or before May 22, 2014.

ADDRESSES: Documents mentioned in this preamble are part of Docket Number USCG-2013-1061. To view documents mentioned in this preamble as being available in the docket, go to http://www.regulations.gov, type the docket number in the “SEARCH” box and click “SEARCH.” Click on “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays.

You may submit comments, identified by docket number, using any one of the following methods:

(1) Federal eRulemaking Portal: http://www.regulations.gov.

(2) Fax: (202) 493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Shelley R. Miller, Eighth Coast Guard District Waterways Management Division, (504) 671-2139 or email, Shelley.R.Miller@uscg.mil. If you have questions on viewing the docket, call Cheryl Collins, Program Manager, Docket Operations, telephone 202-366-9826.

SUPPLEMENTARY INFORMATION:

Table of Acronyms

BNM Broadcast Notice to Mariners

COTP Captain of the Port

DHS Department of Homeland Security

FR Federal Register

LNM Local Notice to Mariners

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number [USCG-2013-1061] in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2013-1061) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one, using one of the methods specified under ADDRESSES. Please explain why you believe a public meeting would be beneficial. If we determine that one would aid this rulemaking, we will hold one at a time and place announced by a later notice in the Federal Register.

B. Regulatory History and Information

The Coast Guard is issuing this interim final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. This interim rule is effective upon publication without prior notice through publication in the Federal Register, but also invites comments regarding the updated list of events. The Coast Guard will address all comments accordingly, whether through response, additional revision to the regulation, or otherwise. Completing the full NPRM process would unnecessarily delay the effective dates for the events listed to occur in April and May of 2014. This interim rule, prepared to provide the most up to date list of recurring marine events and special local regulations, provides ample notice for all listed events occurring after May. Additionally, these recurring events are noticed to the public through local avenues and planned on by the local communities.

The current list of annual and recurring marine events and special local regulations occurring in the Eighth Coast Guard District AOR is published under 33 CFR part 100.801. That list was last updated May 16, 2012 through a previous rulemaking, [77 FR 2876] and received no adverse comments. Like this interim rule, the May 2012 update added to, removed from, and amended 33 CFR 100.801 to create a comprehensive list of recurring marine events requiring special local regulations. In addition to amending and updating the current list, this interim rule provides additional clarity by separating the events according to each Coast Guard Sector within the Eighth District.

For the same reasons, under 5 U.S.C. 553(d)(3), the Coast Guard finds that good cause exists for making this rule effective less than 30 days after publication in the Federal Register. Providing a 30-day notice would unnecessarily delay the effective dates for the events listed to occur in April and May of 2014, which are also noticed to the public through local avenues and are planned on by the local communities.

C. Basis and Purpose

The basis for this interim rule is found in 33 U.S.C. 1233 which authorizes the Coast Guard to permit marine events and establish special local regulations related to those marine events. The Coast Guard is amending and updating the special local regulations under 33 CFR part 100 to incorporate the numerous annual marine events held on or around navigable waters within the Eighth Coast Guard District. These events include marine parades, boat races, swim events, and other marine related events. Currently, there is a list of events located at 33 CFR 100.801, establishing a special local regulation for each annual or recurring marine event in the Eighth Coast Guard District's area of responsibility. That list requires amending to provide new information on existing events and updating to include 42 new events expected to recur annually or biannually and remove 16 special local regulations that are not longer required. Issuing individual rulemakings for each new event, event requiring amendment, or removing an event creates unnecessary administrative costs and burdens. This rule considerably reduces administrative overhead and provides the public with notice through publication in the Federal Register of the upcoming recurring marine events and their accompanying special local regulations.

The Coast Guard encourages the public to participate in this rulemaking through the comment process so that any changes necessary can be identified and implemented in a timely and efficient manner.

D. Discussion of the Interim Rule

Title 33 CFR part 100 contains regulations to provide effective control over regattas and marine parades conducted on U.S. navigable waters to ensure safety of life in the regattas or marine parade area. Section 100.801 provides the regulations applicable to events taking place in the Eighth Coast Guard District and also provides a table listing each event and special local regulation. This section requires amendment from time to time to update to properly reflect the annually recurring marine events and special local regulations in the Eighth Coast Guard District. This interim rule amends and updates Section 100.801 replacing the current Table 1 with seven separate tables, one for each Sector within the Coast Guard's Eighth District as follows:

Table 1—Sector Ohio Valley

Table 2—Sector Upper Mississippi River

Table 3—Houston Galveston

Table 4—Corpus Christi

Table 5—New Orleans

Table 6—Sector Lower Mississippi River

Table 7—Sector Mobile

Categorizing the events and special local regulations by Sector eliminates dual numbering within the District list and then again by Sector. Listing events and special local regulations by Sector also provides easier reference to a specific event or regulation.

Additionally, this rule adds 42 new events with special local regulations and removes 16 events as follows:

26 events added under the new Table 1 for Sector Ohio Valley.

Date | Sponsor/name | Location | Regulated area
1 day—During the last weekend in May | Louisville Metro Government/Mayor's Healthy Hometown Subway Fresh Fit, Hike, Bike and Paddle | Louisville, KY | Ohio River, Mile 602.0-603.5 (Kentucky).
3 days—Second or third weekend in June | Hadi Shrine/Evansville Freedom Festival Air Show | Evansville, IN | Ohio River, Mile 791.0-795.0 (Indiana).
1 day—First or second weekend in June | Southern Indiana Triathlon Inc./Southern Indiana Triathlon | Louisville, KY | Ohio River, Mile 600.0-603.0 (Kentucky).
1 day—Last weekend in June | SOS Triathlon | Louisville, KY | Ohio River, Mile 602.0-603.5 (Kentucky).
1 day—Second or third Saturday in July | Allegheny Mountain LMSC/Search for Monongy | Pittsburgh, PA | Allegheny River, Mile 0.0-0.6 (Pennsylvania).
1 day—July 4th | Wellsburg 4th of July Committee/Wellsburg 4th of July Fireworks | Wellsburg, WV | Ohio River, Mile 73.5-74.5 (West Virginia).
1 day—During the first week of July | Evansville Freedom Celebration | Evansville, IN | Ohio River, Mile 791.0-795.0 (Indiana).
1 day—First weekend in September | Louisville Metro Government/Mayor's Healthy Hometown Subway Fresh Fit, Hike, Bike and Paddle | Louisville, KY | Ohio River, Mile 602.0-603.5 (Kentucky).
1 day—First or second weekend in July | City of Livermore/City of Livermore Canoe Race | Livermore, KY | Green River, Mile 71.0-71.5 (Kentucky).
1 day—First or second weekend in July | Jam Brand Sports, LLC/Buckhead Border Challenge Triathlon | Louisville, KY | Ohio River, Mile 602.0-604.0 (Kentucky).
2 days—First or second weekend in July | Dare to Care/KFC Mayor's Cup Paddle Sports Races | Louisville, KY | Ohio River, Mile 600.0-604.0 (Kentucky).
1 day—First weekend in August | Kentucky Derby Festival/Venetian Boat Parade Festival | New Albany, IN | Ohio River, Mile 596.0-604.3 (Indiana).
1 day—Second weekend in August | North Oldham High School/North Oldham Ohio River Swim | LaGrange, KY | Ohio River, Mile 595 (Kentucky).
3 days—Fourth weekend in August | Kentucky Drag Boat Association/Thunder on the Green | Livermore, KY | Green River, Mile 70.0-71.5 (Kentucky).
1 day—Fourth weekend in August | Team Rocket Tri-Club/Rocketman Triathlon | Huntsville, AL | Tennessee River, Mile 324.0-324.5 (Alabama).
2 days—Fourth weekend in August | Hadi Shrine/Owensboro Air Show | Owensboro, KY | Ohio River, Mile 755.0-759.0 (Kentucky).
1 day—First Sunday in August | HealthyHuntington.org/St. Marys Tri-state Triathlon | Huntington, WV | Ohio River, Mile 307.3-308.3 (West Virginia).
2 days—First weekend in August | Buckeye Outboard Association/Portsmouth Challenge | Portsmouth, OH | Ohio River, Mile 355.3-356.7 (Ohio).
1 day—Sunday before Labor Day | Cincinnati Bell, WEBN, and Proctor and Gamble/Riverfest | Cincinnati, OH | Ohio River, Mile 464.0-476.0 (Kentucky and Ohio) and Licking River Mile 0.0-3.0 (Kentucky).
2 days—First or second weekend in September | State Dock/Cumberland Poker Run | Jamestown, KY | Lake Cumberland (Kentucky).
1 day—First or second weekend in September | Sailing for a Cure Foundation/SFAC Fleur de Lis Regatta | Louisville, KY | Ohio River, Mile 602.0-604.0 (Kentucky).
1 day—One weekend, last half of September | Harbor House of Louisville/Ken“Ducky” Derby | Louisville, KY | Ohio River, Mile 602.0-604.0 (Kentucky).
1st Weekend in July | Eddyville Creek Marina/Thunder Over Eddy Bay | Eddyville, KY | Cumberland River Mile 46.0-47.0.
1st or 2nd Weekend of July | Prizer Point Marina/4th of July Celebration | Cadiz, KY | Cumberland River Mile 54.0-55.0.
2 days, last weekend in May or 1st weekend in June | Racing the Tennessee/Visit Knoxville | Knoxville, TN | Tennessee River Mile 647.0-648.0.
1 day—Second weekend in September | Start 2 Finish/Nashvegas Triathlon | Ashland City, TN | Cumberland River, Mile 157.0-159.0 (Tennessee).

Two events added under the new Table 4 for Sector Corpus Christi.

Date | Event/sponsor | Location | Regulated area
1st or 2nd Saturday and Sunday of September | Ruff Riders Regatta/Galway Asset Management LLC. | ICWW from South Padre Island to Corpus Christi, TX | ICWW from South Padre Island to Corpus Christi, TX
1st or 2nd Saturday of December | Port Isabel Annual Lighted Boat Parade/Port Isabel Chamber of Commerce | Port Isabel, Laguna Madre, TX | All waters within Laguna Madre from Port Isabel and east to South Padre Island.

Ten events added under the new Table 5 for Sector New Orleans.

Date | Event/sponsor | Location | Regulated area
Fri-Sun after Mardi Gras and the following Sat-Sun | Mardi Gras Regatta New Orleans Yacht Club | New Orleans, LA Lake Ponchartrain | South Shore of Lake Ponchartrain, North and Northwest of New Canal Entrance.
Wednesday evenings during Daylight Saving Time | Wednesday Night Racing Series Southern Yacht Club, New Orleans Yacht Club, Corinthian Sailing Association | New Orleans, LA Lake Ponchartrain | South Shore of Lake Ponchartrain, from West End east to the “J” mark.
Friday evenings during Daylight Saving Time | Friday Night Twilight Series Southern Yacht Club | New Orleans, LA Lake Ponchartrain | South Shore of Lake Ponchartrain, within 1 NM of New Canal entrance.
Memorial Day Weekend or last weekend in May | Juby Wynne One Design Regatta Southern Yacht Club | New Orleans, LA Lake Ponchartrain | South shore of Lake Ponchartrain, 4 or 5 race courses, North of New Canal, in the vicinity of the SYC Fixed Marks circle.
Memorial Day (Monday) | Defenders Challenge Southern Yacht Club | New Orleans, LA Lake Ponchartrain | South shore of Lake Ponchartrain, within 1 NM of the entrance to New Canal.
Last full weekend of October | Lake Ponchartrain Racing Circuit Southern Yacht Club, New Orleans Yacht Club, Ponchartrain Yacht Club, Tammany Yacht Club | New Orleans, LA Lake Ponchartrain | Lake Ponchartrain, East of the Causeway Bridge. Races occur on both North and South Shores, and one race runs across the lake.
First full weekend of November | Southern Soiland Cup Southern Yacht Club | New Orleans, LA Lake Ponchartrain | South Shore of Lake Ponchartrain, within 1 NM of the entrance to New Canal.
Weekend before Thanksgiving | Great Oaks Interscholastic Regatta Southern Yacht Club & Interscholastic Sailing Association | New Orleans, LA Lake Ponchartrain | South Shore of Lake Ponchartrain, within 1 NM of the entrance to New Canal.
Thanksgiving Day, Friday & Saturday after Thanksgiving | US Optimist Dinghy Mid-Winter Championship Southern Yacht Club | New Orleans, LA Lake Ponchartrain | South shore of Lake Ponchartrain, approximately 1 NM north of New Canal.
December 30 and 31 | Sugar Bowl Intercollegiate Regatta Southern Yacht Club | New Orleans, LA Southern Yacht Club | South shore of Lake Ponchartrain, within 1 NM North of the entrance to New Canal.

Two events added under the new Table 6 for Sector Lower Mississippi.

Date | Event/sponsor | Sector Lower MS River location | Regulated area
1. 1st Sat in June | Arkansas River Canoe and Kayak Race | Arkansas River, Little Rock, AR | Regulated Area: Arkansas River mile marker 124-118, Little Rock, Ar.
2. 2nd Sat in Sept—2nd Sat in Oct | Dragon Boat Race—Tenn. Clean Water Network | Wolf River Chute, Memphis, TN | Regulated Area: Wolf River Chute, mile marker 0.5 to 2.0, Memphis, TN.

Two events added under the new Table 7 for Sector Mobile.

Date | Event/sponsor | Location | Regulated area
2 Days; Last weekend in April | Moss Point Rockin' the Riverfront Festival/Moss Point Main Street Assoc | Robertson Lake & O'Leary Lake, Moss Point, MS | Robertson Lake & O'Leary Lake, all waters enclosed by a bounded area starting at a point on the shore at approximately 30°25′11.0″ N, 088°32′24.4″ W, then east to 30°25′12.9″ N, 088°32′18.0″ W, then south to 30°24′50.9″ N, 088°32′09.6″ W, then west following the shore line back to the starting point at 30°25′11.0″ N, 088°32′24.4″ W.
1 Day; Last weekend in April | Jr. League of Tuscaloosa Dragon Boat Race/Junior League of Tuscaloosa | Black Warrior River, Tuscaloosa, AL | Black Warrior River, all waters from river miles 340.5 to 341.0, to include the entire width of the river.

This rule removes the following 17 special local regulations from the existing Table 1 to § 100.801 as follows:

Date | Event/sponsor | Location | Regulated area
1 day—Second Saturday in April | Hamar Rowing Club/Marietta Invitational Regatta | Marietta, OH | Muskingum River, Mile 0.5-1.5 (Ohio).
First Weekend in May | Kentucky Lake Sailing Club/Riddle Cup Regatta | Grand Rivers, KY | No Regulated Area, Sailing vessels will not impede navigation.
June through October | Common Wealth Yacht Club/CYC Sailing Series | Grand Rivers, KY | No Regulated Area, Sailing vessels will not impede navigation.
One day during fourth week in July | Oakmont Yacht Club Regatta/Oakmont Yacht Club | Allegheny River, Oakmont, PA | Allegheny River, mile marker 10.8 to 12.5, Oakmont, PA.
Second weekend in July | Marietta Riverfront Roar | Marietta, OH, Ohio River | Ohio River mile marker 172.6 to 171.6.
First weekend in August | Summerfest | Guyandotte WV. Ohio River | Ohio River mile marker 305.5 to 304.2, 1/2 mile up and down river from the Proctorville Bridge, which crosses from Guyandotte, WV to Proctorville, Oh.
2nd weekend in August | Dragon Boat and River Festival/Cumberland River Compact | Nashville, TN | Cumberland River mile marker 190.0-192.0.
3rd weekend in August | Pro Wakeboard Tour/World Sports and Marketing | Knoxville, TN | Tennessee River mile marker 647.0 to 468.0.
Second Weekend in September | Kentucky Lake Sailing Club/Watkins Cup Regatta | Grand Rivers, KY | No Regulated Area, Sailing vessels will not impede navigation.
Second or Third weekend in September | Ohio Sternwheel Festival | Parkersburg, WV Ohio River | Restricted area for the sternwheel race reenactment extending from mile marker 172.4 to 170.3.2 on the Ohio River. Safety Zone for the fireworks display, extending from mile marker 171.5 to 172.5 (about 1/2 mile up and down river from the confluence of the Ohio and Muskingum Rivers). (See 33 CFR 165).
3rd weekend in September | Great Nashville Duck Race/Boys and Girls Club of Middle Tennessee | Nashville, TN | Cumberland River mile marker 190.0-192.0.
Last weekend in September | Waterworks half marathon and sprint races rowing regatta | Charleston, WV Kanawha River | Kanawha River mile marker 171.7 to 172.7. A regulated area will exist around the confluence of the Muskingum and Ohio Rivers—approximately 1/2 mile each way.
Last Weekend in September | Common Wealth Yacht Club/Commonwealth Cup Regatta | Grand Rivers, KY | No Regulated Area, Sailing vessels will not impede navigation.
First weekend in October | Kentucky Lake Sailing Club/100K Distance Race | Grand Rivers, KY | No Regulated Area, Sailing vessels will not impede navigation.
First weekend in October | Star USA Capital City Challenge | Charleston, WV Kanawha River | Kanawha River mile marker 62.2 to 57.2, 1/2 mile upriver from the Daniel Boone Boat Launch downriver 1/2 mile past the confluence of the Elk and Ohio Rivers.
Third Saturday in October | Head of the Kanawha Rowing Regatta | Kanawha, River | From mile marker 62.4, half mile up river from the Daniel Boone public boat ramp down to mile marker 57.4, half mile downriver from the confluence of the Elk River and the Kanawha River.

Regulatory Analyses

We developed this rule after considering numerous statutes and executive orders related to rulemaking. Below we summarize our analyses based on a number of these statutes or executive orders.

Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders.

The Coast Guard expects the economic impact of this rule to be so minimal that a full regulatory evaluation is unnecessary. The marine parades, regattas, and other marine events listed in this rule will restrict vessel traffic in certain areas of Eighth Coast Guard District waters at specified times; however, the effect of this regulation will not be significant because these events are short in duration and the special local regulations restricting and governing vessel movements are also limited in scope and short in duration. Additionally, the public is given advance notification through local forms of notice, the Federal Register, and/or Notices of Enforcement and thus will be able to plan operations around the events in advance. Deviations from each special local regulation may be requested through the COTP and each request will be considered on a case-by-case basis.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

This rule may affect the following entities, some of which might be small entities: The owners or operators of vessels intending to transit the regulated areas during the marine events and periods of enforcement. The special local regulations will not have a significant economic impact on a substantial number of small entities for the following reasons. These regulations are limited in scope and will be in effect for short periods of times. Before each enforcement period, the Coast Guard COTP will issue maritime advisories widely available to waterway users. Deviations from each special local regulation may be requested through the COTP and each request will be considered on a case-by-case basis.

Therefore, the Coast Guard certifies under 5 U.S.C. 605(b) that this interim final rule will not have a significant economic impact on a substantial number of small entities.

Assistance for Small Entities

Under section 213(a) of the Small Business Regulatory Enforcement Fairness Act of 1996 (Pub. L. 104-121), we offer to assist small entities in understanding the rule so that they can better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small businesses. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 0023.1 and Commandant Instruction M16475.lD, which guide the Coast Guard in complying with the National Environmental Policy Act of 1969 (NEPA) (42 U.S.C. 4321-4370f), and have concluded that this action is one of a category of actions which do not individually or cumulatively have a significant effect on the human environment. This rule is categorically excluded under section 2.B.2, figure 2-1, paragraph (34)(h) of the Instruction because it involves establishment of special local regulations related to marine event permits for marine parades, regattas, and other marine events. An Environmental analysis and a categorical exclusion determination are not required for these regulations because the environmental review was performed during each marine event permit review process.

List of Subjects in 33 CFR Part 100

Marine safety, Navigation (water), Reporting and recordkeeping requirements, and Waterways.

For the reasons discussed in the preamble, the Coast Guard amends 33 CFR Part 100 as follows:

PART 100—REGATTAS AND MARINE PARADES

1. The authority citation for part 100 continues to read as follows:

Authority: 33 U.S.C. 1233.

2. Amend § 100.801 to revise table 1 and add tables 2 through 7 to read as follows:

§ 100.801 Annual Marine Events in the Eighth Coast Guard District.

* * * * *

Table 1 of § 100.801—Ohio Valley Captain of the Port Zone Annual and Recurring Marine Events
Date | Event/sponsor | Ohio Valley location | Regulated area
1. The first Saturday in April | University of Charleston Rowing/West Virginia Governor's Cup Regatta | Charleston, WV | Kanawha River, Mile 59.9-61.4 (West Virginia).
2. 1 day—Saturday before Memorial Day weekend | Venture Outdoors/Venture Outdoors Festival | Pittsburgh, PA | Allegheny River, Mile 000.0-001.0 (Pennsylvania).
3. 1 day—During the last week of April or first week of May | Kentucky Derby Festival/Belle of Louisville Operating Board/Great Steamboat Race | Louisville, KY | Ohio River, Mile 596.0-604.3 (Kentucky).
4. 1 day—First or second weekend in May | REV3/REV3 Triathlon | Knoxville, TN | Tennessee River, Mile 646.0-649.0 (Tennessee).
5. 1 day—second weekend in June | Chattanooga Parks and Rec/Chattanooga River Rats Open Water Swim | Chattanooga, TN | Tennessee River, Mile 464.0-469.0 (Tennessee).
6. 1 day—Third or fourth weekend in June | Greater Morgantown Convention and Visitors Bureau/Mountaineer Triathlon | Morgantown, WV | Monongahela River, Mile 101.0-102.0 (West Virginia).
7. 2 days—First weekend of June | Kentucky Drag Boat Association | Pisgah Bay, KY | Tennessee River, Mile 30.0 (Kentucky).
8. 3 days—Last weekend in June | Thunder on the Ohio/Evansville Freedom Festival | Evansville, IN | Ohio River, Mile 792.0-793.0 (Indiana).
9. Fourth Sunday in June | Green Umbrella/Ohio River Paddlefest | Cincinnati, OH | Ohio River Mile 459.5-470.2 (Ohio and Kentucky).
10. 1 day—Fourth or fifth Sunday in September | Green Umbrella/Great Ohio River Swim | Cincinnati, OH | Ohio River Mile 469.8-470.2 (Ohio and Kentucky).
11. 1 day—Third or fourth Sunday of July | Tucson Racing/Cincinnati Triathlon | Cincinnati, OH | Ohio River Mile 469.3-470.2 (Ohio).
12. 2 days—First weekend of July | Kentucky Drag Boat Association | Pisgah Bay, KY | Tennessee River, Mile 30.0 (Kentucky).
13. 3 days—One of the first two weekends in July | Madison Regatta, Inc./Madison Regatta | Madison, IN | Ohio River, Mile 555.0-560.0 (Indiana).
14. 1 day—Third weekend in July | Headfirst Performance/Cardinal Harbor Triathlon | Finchville, KY | Ohio River, Mile 595 (Kentucky).
15. 1 day—Second weekend in July | Team Magic/Chattanooga Waterfront Triathlon | Chattanooga, TN | Tennessee River, Mile 463.0-465.0 (Tennessee).
16. 1 day—Fourth weekend in July | Team Magic/Music City Triathlon | Nashville, TN | Cumberland River, Mile 190.0-192.0 (Tennessee).
17. 2 days—Last two weekends in July or first week of August | Friends of the Riverfront Inc./Pittsburgh Triathlon and Adventure Races | Pittsburgh, PA | Allegheny River, Mile 000.0-001.0 (Pennsylvania).
18. 2 days—First weekend of August | Kentucky Drag Boat Association | Pisgah Bay, KY | Tennessee River, Mile 30.0 (Kentucky).
19. 1 day—First or second weekend in August | Evansville Goodwill Industries/Ducks on the Ohio | Evansville, IN | Ohio River, Mile 792.0-796.0 (Indiana).
20. 2 days—Fourth weekend in August | Norton Healthcare/Ironman Triathlon | Louisville, KY | Ohio River, Mile 601.5-604.5 (Kentucky).
21. 2 days—Third full weekend (Saturday and Sunday) in August | Ohio County Tourism/Rising Sun Boat Races | Rising Sun, IN | Ohio River Mile 504.0-508.0 (Indiana and Kentucky).
22. 3 days—Third weekend in August | Governors' Cup / UWP-IJSBA National Championships | Charleston, WV | Kanawha River, Mile 56.7-57.6 (West Virginia).
23. 2 days—Fourth weekend in July | Herd Racing LLC/Huntington Classic | Huntington, WV | Ohio River, Mile 307.3-309.3 (West Virginia).
24. 2 days—Last weekend in September | Fall Records Challenge Committee/Fall Records Challenge | New Martinsville, WV | Ohio River, Mile 128.5-129.5 (West Virginia).
25. 1 day—Labor Day weekend | Wheeling Vintage Race Boat Association Ohio/Wheeling Vintage Regatta | Wheeling, WV | Ohio River, Mile 090.4-091.5 (West Virginia).
26. 1 day—First weekend in September | Cumberland River Compact/Cumberland River Dragon Boat Festival | Nashville, TN | Cumberland River, Mile 190.0-192.0.
27. 2 days—First or second weekend in September | State Dock/Cumberland Poker Run | Jamestown, KY | Lake Cumberland (Kentucky).
28. 1 day—First or second weekend in September | Sailing for a Cure Foundation/SFAC Fleur de Lis Regatta | Louisville, KY | Ohio River, Mile 602.0-604.0 (Kentucky).
29. 1 day—One weekend, last half of September | Harbor House of Louisville/Ken“Ducky” Derby | Louisville, KY | Ohio River, Mile 602.0-604.0 (Kentucky).
30. 1 day—Second weekend in September | City of Clarksville/Clarksville Riverfest | Clarksville, TN | Cumberland River, Mile 125.0-126.0 (Tennessee).
31. 1 day—First weekend of October | Three Rivers Rowing Association/Head of the Ohio Regatta | Pittsburgh, PA | Allegheny River, Mile 000.0-003.5 (Pennsylvania).
32. 1 day—First or second weekend in October | Lookout Rowing Club/Chattanooga Head Race | Chattanooga, TN | Tennessee River, Mile 464.0-467.0 (Tennessee).
33. 3 days—First weekend in November | Atlanta Rowing Club/Head of the Hooch Rowing Regatta | Chattanooga, TN | Tennessee River, Mile 464.0-467.0 (Tennessee).
34. One Saturday in June or July | Paducah Summer Festival/Cross River Swim | Paducah, KY | Ohio River Mile 934-936 (Kentucky).
35. 1 day—During the last weekend in May | Louisville Metro Government/Mayor's Healthy Hometown Subway Fresh Fit, Hike, Bike and Paddle | Louisville, KY | Ohio River, Mile 602.0-603.5 (Kentucky).
36. 3 days—Second or third weekend in June | Hadi Shrine/Evansville Freedom Festival Air Show | Evansville, IN | Ohio River, Mile 791.0-795.0 (Indiana).
37. 1 day—First or second weekend in June | Southern Indiana Triathlon Inc./Southern Indiana Triathlon | Louisville, KY | Ohio River, Mile 600.0-603.0 (Kentucky).
38. 1 day—Last weekend in June | SOS Triathlon | Louisville, KY | Ohio River, Mile 602.0-603.5 (Kentucky).
39. 1 day—Second or third Saturday in July | Allegheny Mountain LMSC/Search for Monongy | Pittsburgh, PA | Allegheny River, Mile 0.0-0.6 (Pennsylvania).
40. 1 day—July 4th | Wellsburg 4th of July Committee/Wellsburg 4th of July Fireworks | Wellsburg, WV | Ohio River, Mile 73.5-74.5 (West Virginia).
41. 1 day—During the first week of July | Evansville Freedom Celebration | Evansville, IN | Ohio River, Mile 791.0-795.0 (Indiana).
42. 1 day—First weekend in September | Louisville Metro Government/Mayor's Healthy Hometown Subway Fresh Fit, Hike, Bike and Paddle | Louisville, KY | Ohio River, Mile 602.0-603.5 (Kentucky).
43. 1 day—First or second weekend in July | City of Livermore/City of Livermore Canoe Race | Livermore, KY | Green River, Mile 71.0-71.5 (Kentucky).
44. 1 day—First or second weekend in July | Jam Brand Sports, LLC/Buckhead Border Challenge Triathlon | Louisville, KY | Ohio River, Mile 602.0-604.0 (Kentucky).
45. 2 days—First or second weekend in July | Dare to Care/KFC Mayor's Cup Paddle Sports Races | Louisville, KY | Ohio River, Mile 600.0-604.0 (Kentucky).
46. 1 day—First weekend in August | Kentucky Derby Festival/Venetian Boat Parade Festival | New Albany, IN | Ohio River, Mile 596.0-604.3 (Indiana).
47. 1 day—Second weekend in August | North Oldham High School/North Oldham Ohio River Swim | LaGrange, KY | Ohio River, Mile 595 (Kentucky).
48. 3 days—Fourth weekend in August | Kentucky Drag Boat Association/Thunder on the Green | Livermore, KY | Green River, Mile 70.0-71.5 (Kentucky).
49. 1 day—Fourth weekend in August | Team Rocket Tri-Club/Rocketman Triathlon | Huntsville, AL | Tennessee River, Mile 324.0-324.5 (Alabama).
50. 2 days—Fourth weekend in August | Hadi Shrine/Owensboro Air Show | Owensboro, KY | Ohio River, Mile 755.0-759.0 (Kentucky).
51. 1 day—First Sunday in August | HealthyHuntington.org/St. Marys Tri-state Triathlon | Huntington, WV | Ohio River, Mile 307.3-308.3 (West Virginia).
52. 2 days—First Weekend in August | Buckeye Outboard Association/Portsmouth Challenge | Portsmouth, OH | Ohio River, Mile 355.3-356.7 (Ohio).
53. 1 day—Sunday before Labor Day | Cincinnati Bell, WEBN, and Proctor and Gamble/Riverfest | Cincinnati, OH | Ohio River, Mile 464.0-476.0 (Kentucky and Ohio) and Licking River Mile 0.0-3.0 (Kentucky).
54. 2 days—First or second weekend in September | State Dock/Cumberland Poker Run | Jamestown, KY | Lake Cumberland (Kentucky).
55. 1 day—First or second weekend in September | Sailing for a Cure Foundation/SFAC Fleur de Lis Regatta | Louisville, KY | Ohio River, Mile 602.0-604.0 (Kentucky).
56. 1 day—One weekend, last half of September | Harbor House of Louisville/Ken“Ducky” Derby | Louisville, KY | Ohio River, Mile 602.0-604.0 (Kentucky).
57. 1st Weekend in July | Eddyville Creek Marina/Thunder Over Eddy Bay | Eddyville, KY | Cumberland River Mile 46.0-47.0.
58. 1st or 2nd Weekend of July | Prizer Point Marina/4th of July Celebration | Cadiz, KY | Cumberland River Mile 54.0-55.0.
59. 2 days, last weekend in May or 1st weekend in June | Racing the Tennessee/Visit Knoxville | Knoxville, TN | Tennessee River Mile 647.0-648.0.
60. 1 day—Second weekend in September | Start 2 Finish/Nashvegas Triathlon | Ashland City, TN | Cumberland River, Mile 157.0-159.0 (Tennessee).

Table 2 of § 100.801—Sector Upper Mississippi River Annual and Recurring Marine Events
Date | Event/sponsor | Upper Mississippi River location | Regulated area
1. 1 day—Third Saturday in May | Clear Lake Chapter of the ACBS/That was then, This is Now Boat Show & Exhibition | Quad Cities, IL | Upper Mississippi River mile marker 454.0 to 456.0 (Iowa).
2. 1 day—Third Saturday in March | Lake West Chamber of Commerce/St. Patrick's Water Parade | Lake of the Ozarks, MO | Lake of the Ozarks mile marker 5.0 to 10.0 (Missouri).
3. 1 day—Third Saturday in July | Marine Max/Aqua Plooza | Lake of the Ozarks, MO | Lake of the Ozarks Mile marker 18.7 to 19.3 (Missouri).
4. 2 days—Third weekend in July | Champboat Series LLC/Aquatennial Power Boat Grand Prix | Minneapolis, MN | Upper Mississippi River mile marker 854.8 to 855.8 (Minnesota).
5. 2 days—Third weekend in June | Lake City Chamber of Commerce/Water Ski Days | Lake City, MN | Upper Mississippi River mile marker 772.4 to 772.8 (Minnesota).
6. 2 days—First week of August | River City Days Association/River City Days | Red Wing, MN | Upper Mississippi River mile marker 791.4 to 791.8 (Minnesota).
7. 2 days—Second weekend of September | St. Louis Drag Boat Association/New Athens Drag Boat Race | New Athens, IL | Kaskaskia River mile marker 28.0 to 29.0 (Illinois).
8. 2 days—Third weekend in July | Havana Chamber of Commerce/Havana Boat Races | Havana, IL | Illinois River mile marker 120.3 to 119.7 (Illinois).
9. 3 days—Third weekend in August | K.C. Aviation Expo & Air Show/K.C. Aviation Expo & Air Show | Kansas City, MO | Missouri River mile marker 366.3 to 369.8 (Missouri).
10. 3 days a week from May 4th-September 30th | Twin City River Rats Organization/Twin City River Rats | Twin Cities, MN | Upper Mississippi River mile marker 855.4 to 855.8 (Minnesota).

Table 3 of § 100.801—Sector Houston-Galveston Annual and Recurring Marine Events
Date | Event/sponsor | Houston- Galveston location | Regulated area
1. A Saturday evening within the Mardi Gras Season (February or March) | Yachty Gras | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).
2. A Saturday morning in April | Memorial Hermann Gateway to the Bay Triathlon | Galveston Bay, TX | Galveston Bay within an area beginning at Latitude 29°32′38.02″ N, Longitude 095°00′58.30″ W thence east to Latitude 29°32′46.73″ N, Longitude 094°59′50.36″ W, thence south to Latitude 29°32′36.98″ N, Longitude 094°59′50.32″ W, thence west to 29°32′30.86″ N, Longitude 095°00′56.91″ W thence along the shoreline to the point of beginning. (NAD 83).
3. The 1st Sunday afternoon in May | Blessing of the Fleet | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).
4. 3 days during the 1st weekend in May (including partial weekends) | RiverFest Power Boat Races/Port Neches Chamber of Commerce | Neches River, Port Neches, TX | Adjacent to Port Neches Park—all waters of the Neches River shoreline to shoreline south of 30°00′08″ N and west of 093°56′00″ W (NAD 83).
5. 2nd or 3rd weekend in September | SPORT Power Boat Races/City of Orange, TX Convention/Visitors Bureau | Sabine River, Orange, TX | Adjacent to the Orange, TX public boat ramp—all waters of the Sabine River, shoreline to shoreline, south of 30°05′33″ N and north of 30°05′45″ N (NAD 83).
6. The 2nd Saturday night in December | Christmas Boat Parade on Clear Lake | Clear Lake, TX | Clear Creek Channel from approximate position Latitude 29°33′16.8″ N, Longitude 095°03′39.6″ W in Clear Lake thence east/northeast in the Clear Creek Channel to approximate position Latitude 29°32′58.8″ N, Longitude 095°00′30.6″ W in Galveston Bay. (NAD 83).

Table 4 of § 100.801—Sector Corpus Christi Annual and Recurring Marine Events
Date | Event/sponsor | Corpus Christi location | Regulated area
1. 2nd, 3rd or 4th Wednesday thru Sunday in April | Corpus Christi Yacht Club/World Kite-boarding Championship | Corpus Christi Bay, Corpus Christi, TX | All waters contained within 1-mile of McGee Beach where participants will race through course markers.
2. 2nd, 3rd or 4th Thursday thru Saturday in April | M.M.D. Communications Corporation/Texas International Boat Show | Corpus Christi Marina/Corpus Christi, TX | All waters inside the Corpus Christi Marina Breakwater, Corpus Christi, TX.
3. 2nd, 3rd or 4th Thursday thru Saturday in April OR 1st or 2nd Thursday thru Saturday in May | American Power Boat Association/Power Boat Races | Corpus Christi Bay, Corpus Christi, TX | All waters of the Corpus Christi Marina contained between the People's Street T-Head on the west, the primary breakwater on the east, the southern boundary running from the southernmost tip of the People's Street T-Head (approx 27-47-43.4N 097-23-16W) along a line running due east to the breakwater (approx 27-47-43.8N 097-23-5.2W), and the northern boundary line running from the northern most tip of the secondary breakwater (approx 27-47-57N 097-23-21.7W) and the end of the primary breakwater (approx 27-47-59.1N 097-23-9.5W).
4. 3rd or 4th Friday-Sunday in April | Corpus Christi Yacht Club/Port Aransas Ladies Regatta | Corpus Christi Bay, Corpus Christi, TX | All waters south of the Corpus Christi Ship Channel and 5-miles East of the Corpus Christi Marina.
5. 2nd, 3rd or 4th Thursday-Sunday in May | Corpus Christi Yacht Club/Melges 24′ Championship Regatta | Corpus Christi Bay, Corpus Christi, TX | All waters south of the Corpus Christi Ship Channel and 5-miles East of the Corpus Christi Marina.
6. 1st or 2nd Friday and Saturday in June | Corpus Christi Yacht Club/Changes in L'Attitude Regatta | Corpus Christi Bay, Corpus Christi, TX | All waters south of the Corpus Christi Ship Channel and 5-miles East of the Corpus Christi Marina.
7. 1st or 2nd Saturday and Sunday in August | Corpus Christi Yacht Club/Navy Regatta | Corpus Christi Bay, Corpus Christi, TX | All waters south of the Corpus Christi Ship Channel and 5-miles East of the Corpus Christi Marina.
8. 3rd or 4th Wednesday thru Saturday in August | Corpus Christi Yacht Club/Corpus Christi Race Week | Corpus Christi Bay, Corpus Christi, TX | All waters south of the Corpus Christi Ship Channel and 5-miles East of the Corpus Christi Marina.
9. 3rd or 4th Friday and Saturday in September | Corpus Christi Yacht Club/Bill Best Regatta | Corpus Christi Bay, Corpus Christi, TX | All waters south of the Corpus Christi Ship Channel and 5-miles East of the Corpus Christi Marina.
10. 1st Saturday in December | City of Corpus Christi/Harbor Lights Boat Parade | Corpus Christi Marina/Corpus Christi, TX | All waters inside the Corpus Christi Marina Breakwater, Corpus Christi, TX.
11. 1st or 2nd Friday and Saturday in December | Aransas Pass Yacht Club/Christmas Lighted Boat Parade | Conn Brown Harbor/Aransas Pass, TX | All waters contained within Conn Brown Harbor in Aransas Pass, TX.
12. 1st or 2nd Friday and Saturday in December | Padre Island Yacht Club/La Posada Lighted Boat Parade | Canals along the North Padre Island in Corpus Christi, TX | All waters along the parade route contained within the North Padre Island canals in Corpus Christi, TX.
13. 1st or 2nd Friday thru Sunday in December | Corpus Christi Yacht Club/Frost Bite Regatta | Corpus Christi Bay, Corpus Christi, TX | All waters south of the Corpus Christi Ship Channel and 5-miles East of the Corpus Christi Marina.
14. 1st or 2nd Saturday and Sunday of September | Ruff Riders Regatta/Galway Asset Management LLC | ICWW from South Padre Island to Corpus Christi, TX | ICWW from South Padre Island to Corpus Christi, TX.
15. 1st or 2nd Saturday of December | Port Isabel Annual Lighted Boat Parade/Port Isabel Chamber of Commerce | Port Isabel, Laguna Madre, TX | All waters within Laguna Madre from Port Isabel and east to South Padre Island.

Table 5 of § 100.801—Sector New Orleans Annual and Recurring Marine Events
Date | Event/sponsor | New Orleans location | Regulated area
1. The Monday before Mardi Gras | Riverwalk Marketplace, Lundi Gras Boat Parade | Mississippi River, New Orleans, LA | Lower Mississippi River, Above Head of Passes, from mile marker 93 to 96, extending the entire width of the river in the vicinity of the Riverwalk, New Orleans, LA.
2. One day during the last weekend of April | Family Fun Festival Pirogue Race/Bayou Civic Club | Larose, LA | In Bayou Lafourche, race begins at LA HWY 657 (Lat: 29°34′17.29″ N; Long: 090°22′58.60″ W) and ends at the Larose Locks (Lat: 29°34′06.20″ N; Long: 090°22′26.50″ W) Part of Bayou Lafourche will be closed for 30 minutes to vessel traffic for race to occur.
3. The 3rd Sunday in April | Blessing of the Shrimp Fleet/St. Joseph's Catholic Church | Chauvin, LA | Starts at Bayou Petit Caillou (Lat: 29°27′43.84″ N; Long: 090°35′19.50″ W) and continues to Lake Boudreaux/Boudreaux Canal (Lat: 29°23′30.83″ N; Long: 090°38′13.64″ W).
4. The 1st weekend after Easter | Blessing of the Fleet and Boat Parade/Our Lady of Prompt Succor Catholic Church | Golden Meadow, LA | Starts on Bayou Lafourche at Our Lady of Prompt Succor Catholic Church (Lat: 29°23′47.25″ N; Long: 090°16′17.72″ W) to the Parish Limits (Lat: 29°25′09.96″ N; Long: 090°17′12.26″ W) to the end of Golden Meadow Business District (Lat: 29°22′16.86″ N; Long: 090°15′32.46″ W) and returning to starting point.
5. The 2nd Sunday after Easter | Grand Caillou Boat Blessing/Holy Family Church | Dulac, LA | Bayou Grand Caillou, Starts 29°25′30.98″ N, 090°41′59.91″ W; to 29°14′42.13″ N, 090°44′03.57″ W; to 29°22′15.44″ N, 090°43′53.84″ W; and returning to starting point.
6. Month of July | Deep South Racing Association/Battle at the Butte | Atchafalaya River at Butte La Rose, LA | Atchafalaya River, Butte La Rose, LA.
7. Month of July or August | Battle of the Basin Boat Races, Morgan City, LA | Morgan City, LA | Morgan City Port Allen Route at mile marker 4.5, Morgan City, LA.
8. 1st weekend of September | LA Shrimp and Petroleum Festival Fleet Blessing, LA Shrimp and Petroleum Festival and Fair Association | Morgan City, LA | Atchafalaya River at mile marker 118.5, Morgan City, LA.
9. Fri-Sun after Mardi Gras and the following Sat-Sun | Mardi Gras Regatta New Orleans Yacht Club | New Orleans, LA Lake Ponchartrain | South Shore of Lake Ponchartrain, North and Northwest of New Canal Entrance.
10. Wednesday evenings during Daylight Saving Time | Wednesday Night Racing Series Southern Yacht Club, New Orleans Yacht Club, Corinthian Sailing Association | New Orleans, LA Lake Ponchartrain | South Shore of Lake Ponchartrain, from West End east to the “J” mark.
11. Friday evenings during Daylight Saving Time | Friday Night Twilight Series Southern Yacht Club | New Orleans, LA Lake Ponchartrain | South Shore of Lake Ponchartrain, within 1 NM of New Canal entrance.
12. Memorial Day Weekend or last weekend in May | Juby Wynne One Design Regatta Southern Yacht Club | New Orleans, LA Lake Ponchartrain | South shore of Lake Ponchartrain, 4 or 5 race courses, North of New Canal, in the vicinity of the SYC Fixed Marks circle.
13. Memorial Day (Monday) | Defenders Challenge Southern Yacht Club | New Orleans, LA Lake Ponchartrain | South shore of Lake Ponchartrain, within 1 NM of the entrance to New Canal.
14. Last full weekend of October | Lake Ponchartrain Racing Circuit Southern Yacht Club, New Orleans Yacht Club, Ponchartrain Yacht Club, Tammany Yacht Club | New Orleans, LA Lake Ponchartrain | Lake Ponchartrain, East of the Causeway Bridge. Races occur on both North and South Shores, and one race runs across the lake.
15. First full weekend of November | Southern Soiland Cup Southern Yacht Club | New Orleans, LA Lake Ponchartrain | South Shore of Lake Ponchartrain, within 1 NM of the entrance to New Canal.
16. Weekend before Thanksgiving | Great Oaks Interscholastic Regatta Southern Yacht Club & Interscholastic Sailing Association | New Orleans, LA Lake Ponchartrain | South Shore of Lake Ponchartrain, within 1 NM of the entrance to New Canal.
17. Thanksgiving Day, Friday & Saturday after Thanksgiving | US Optimist Dinghy Mid-Winter Championship Southern Yacht Club | New Orleans, LA Lake Ponchartrain | South shore of Lake Ponchartrain, approximately 1 NM north of New Canal.
18. December 30 and 31 | Sugar Bowl Intercollegiate Regatta Southern Yacht Club | New Orleans, LA Southern Yacht Club | South shore of Lake Ponchartrain, within 1 NM North of the entrance to New Canal.

Table 6 of § 100.801—Sector Lower Mississippi River Annual and Recurring Marine Events
Date | Event/sponsor | Sector Lower MS River location | Regulated area
1. The 1st or 2nd Saturday in June | Memphis in May Canoe & Kayak Race/Outdoor Inc | Lower Mississippi River, Memphis, TN | Regulated Area: Lower Mississippi River, mile marker 735.5 to 738.5, Memphis, TN.
2. Second Saturday in October | Phatwater Kayak Challenge/Phatwater Kayak Challenge Inc | Lower Mississippi River, Natchez, MS | Regulated Area: Lower Mississippi River, mile marker 363.0 to 405.0, Natchez, MS.
3. 1st of January | Ski Freeze/The Dream Factory of Memphis | Wolf River Chute, Memphis, TN | Regulated Area: Wolf River Chute, mile marker 1.0 to 3.0, Memphis, TN.
4. 2nd or 3rd Saturday in April | BluzCruz Kayak Marathon/BluzCruz Race Committee | Lower Mississippi River, Vicksburg, MS | Regulated Area: Lower Mississippi River, mile marker 457.4 to 437.4, Vicksburg, MS.
5. 3rd Sat in Apr to 2nd Sat in May | Maria Montessori Regatta/Maria Montessori School | Wolf River Chute, Memphis, TN | Regulated Area: Wolf River Chute, mile marker 1.0 to 3.0, Memphis, TN.
6. 1st Sat in June | Arkansas River Canoe and Kayak Race | Arkansas River, Little Rock, AR | Regulated Area: Arkansas River mile marker 124-118, Little Rock, Ar.
7. 2nd Sat in Sept-2nd Sat in Oct | Dragon Boat Race—Tenn. Clean Water Network | Wolf River Chute, Memphis, TN | Regulated Area: Wolf River Chute, mile marker 0.5 to 2.0, Memphis, TN.

Table 7 of § 100.801—Sector Mobile Annual and Recurring Marine Events
Date | Event/sponsor | Sector Mobile location | Regulated area
1. 1 Day; Fat Tuesday (Mardi Gras Day) | Mardi Gras Boat Parade/Gulf Shores Homeport Marina | Intracoastal Waterway, Orange Beach, AL to Gulf Shores, AL | Intracoastal Waterway mile marker 155.0 to 159.0 (EHL), Starts at the Wharf Marina, Orange Beach, AL and heads west to Homeport Marina, Gulf Shores, AL.
2. 1 Day; 1st weekend following Fat Tuesday | Mobile Boat Show/Gulf Coast Shows | Mobile River, Mobile, AL | Mobile River, all waters half a mile down river and half a mile upriver from the Arthur R. Outlaw Convention Center.
3. 1 Day; 1st or 2nd Saturday in March | Battle on the Bayou/South Coast Paddling Company | Old Fort Bayou, Ocean Springs, MS | Old Fort Bayou, from Gulf Hills Hotel to the Shed Barbeque.
4. 1 Day; Mid March to Mid April | Rowing Competition/University of South Alabama | Black Warrior River, Tuscaloosa, AL | Black Warrior River, all waters between river miles 339.0 to 341.5.
5. 2 Days; 3rd weekend in March | Chattahoochee Challenge/City of Chattahoochee | Apalachicola River, Chattahoochee, GA | Apalachicola River, all waters between river miles 104.6 and 106.0.
6. 1 Day; Last Saturday in March | Blessing of the Fleet/Panama City Marina | Saint Andrew Bay, Panama City, FL | Saint Andrew Bay, all waters extending 100 yards out from the Panama City Marina seawall.
7. 1 Day; 2nd or 3rd weekend in April | USAT Triathlon/Tuscaloosa Tourism and Sports Commission | Black Warrior River, Tuscaloosa, AL | Black Warrior River, all waters between river miles 338.5 to 339.5.
8. 2 Days; Between the 1st week in April to the last week in May | Smokin the Sound/Smokin the Sound | Biloxi Channel, Biloxi, MS | Biloxi Channel, all waters between channel markers 2 thru 35, to include the entire width of the channel.
9. 2 Days; Between the 1st week in April to the last week in May | Smokin the Lake/Smokin the Sound | Gulfport Lake, Gulfport, MS | Gulfport Lake, all waters bounded by the following coordinates: Eastern boundary; Latitude 30°25′36″ N, Longitude 089°03′8″ W to Latitude 30°25′26″ N, Longitude 089°03′8″ W. Western boundary; Latitude 30°25′32″ N, Longitude 089°03′59″ W, to Latitude 30°25′26″ N, Longitude 089°03′59″ W.
10. 1 Day; Next to last or last weekend in April | Dauphin Island Race/Fairhope, Lake Forest, Mobile, and Buccaneer Yacht Clubs | Mobile Bay, Mobile, AL | Mobile Bay, all waters of the Mobile Ship Channel between channel markers 37 & 38 thru channel markers 49 & 50, to include the entire width of the channel.
11. 1 Day; 1st or 2nd Sunday in May | Blessing of the Fleet/St. Margaret's Catholic Church | Bayou La Batre, Bayou La Batre, AL | All waters of Bayou La Batre from the Hwy 188 lift bridge, south to Portersville Bay.
12. 2 Days; 1st weekend in June | Billy Bowlegs Pirate Festival/Greater Fort Walton Beach Chamber of Commerce | Santa Rosa Sound, Ft. Walton Beach, FL | Santa Rosa Sound, including all waters between an eastern boundary represented by positions 30°24′22.5″ N, 086°35′14.0″ W; 30°23′51.4″ N, 086°35′14.0″ W, and a western boundary represented by positions 30°24′13.5″ N, 086°37′11.0″ W; 30°23′58.5″ N, 086°37′11.0″ W.
13. 1 Day; 1st Sunday in June | Blessing of the Fleet/St. Michael's Catholic Church | Biloxi Channel, Biloxi, MS | All of Biloxi Channel.
14. 4 Days; In October | Thunder on the Gulf/Gulf Coast Power Boat Association | Gulf of Mexico, Orange Beach, AL | Gulf of Mexico for the waters off Orange Beach, AL, enclosed by a box starting at a point on the shore at approximately 30°15′39″ N, 087°36′42″ W, then south to 30°14′54″ N, 087°36′42″ W, then east, roughly parallel to the shore line to 30°15′22″ N, 087°33′31″ W, then north to a point on the shore at approximately 30°16′13″ N, 087°33′31″ W.
15. 1 Day; Saturday following Thanksgiving | Boat Parade of Lights/City of Panama City & St. Andrews Waterfront Partnership | Saint Andrew Bay, Panama City, FL | Saint Andrew Bay, Starts at Saint Andrew Bay Yacht Club and ends at Saint Andrew Bay Marina.
16. 1 Day; 1st Saturday in December | Christmas on the River/Demopolis Area Chamber of Commerce | Tombigbee River, Demopolis, AL | Tombigbee River, all waters from river miles 215.5 to 217.0, to include the entire width of the river.
17. 1 Day; 1st Saturday in December | Christmas by the River/Moss Point Active Citizens | Beardslee Lake & Robertson Lake, Moss Point, MS | All waters of East Beardslee Lake near Hwy 613 bridge to West Robertson Lake parallel to Hwy 613 and south to the Jackson County Ski Area.
18. 1 Day; 1st Saturday in December | Christmas on the Water/Christmas on the Water Committee | Biloxi Channel, Biloxi, MS | Biloxi Channel, all waters from channel marker 4 to channel marker 30, to include the entire width of the channel.
19. 2 Days; Last weekend in April | Moss Point Rockin' the Riverfront Festival/Moss Point Main Street Assoc | Robertson Lake & O'Leary Lake, Moss Point, MS | Robertson Lake & O'Leary Lake, all waters enclosed by a bounded area starting at a point on the shore at approximately 30°25′11.0″ N, 088°32′24.4″ W, then east to 30°25′12.9″ N, 088°32′18.0″ W, then south to 30°24′50.9″ N, 088°32′09.6″ W, then west following the shore line back to the starting point at 30°25′11.0″ N, 088°32′24.4″ W.
20. 1 Day; Last weekend in April | Jr. League of Tuscaloosa Dragon Boat Race/Junior League of Tuscaloosa | Black Warrior River, Tuscaloosa, AL | Black Warrior River, all waters from river miles 340.5 to 341.0, to include the entire width of the river.

Dated: April 7, 2014.
Kevin Cook,
Rear Admiral, U.S. Coast Guard, Commander, Eighth Coast Guard District.

[FR Doc. 2014-09062 Filed 4-21-14; 8:45 am]

BILLING CODE 9110-04-P